DEPARTMENT OF ENERGY

Federal Energy Regulatory Commission

[Docket No. RP04-335-000]

Portland General Electric Company; Notice of Tariff Filing

June 24, 2004.

Take notice that on June 17, 2004, Portland General Electric Company (Portland) tendered for filing as part of its FERC Gas Tariff, Original Volume No. 1, First Revised Sheet No. 147, to be effective July 17, 2004.

Portland asserts that the purpose of the filing is to remove the Index of Customers from Portland's tariff pursuant to Section 154.111(a) of the Commission's regulations. 18 CFR 154.111(a) (2003).

Portland asserts that it is submitting its quarterly electronic Index of Customers to the Commission. In addition, Portland states that pursuant to Section 284.13(c), the Index of Customers has been posted on Portland's Web site. Therefore Portland asserts that it has modified First Revised Sheet No. 147 to delete the Index of Customers and to reserve the sheet for future use.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-1465 Filed 6-30-04; 8:45 am]

BILLING CODE 6717-01-P